DEPARTMENT OF LABOR

Employment and Training Administration

[TA-W-60,515]

Maytag Corporation, A Wholly Owned Subsidiary of Whirlpool Corporation, Newton Division; Including On-Site Leased Workers of Henkel Corp., Randstad Corp., Ryerson Steel, Chem-Tool, Barnes Electric, Mid Iowa Tools, Kimco Janitorial, Johnson Controls, and Baker Electric Newton, IA; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on December 26, 2006, applicable to workers of Maytag Corporation, a wholly owned subsidiary of Whirlpool Corporation, Newton Division, Newton, Iowa. The notice was published in the Federal Register on January 16, 2007 (72 FR 1770).

At the request of a company official, the Department reviewed the certification for workers of the subject firm. The workers are engaged in the production of laundry products (clothes washers and dryers) and are not separately identifiable by specific product.

New information shows that leased workers of the above listed firms were contracted to work on-site at the Newton, Iowa location of Maytag Corporation, a wholly owned subsidiary of Whirlpool Corporation, Newton Division. These workers provided a variety of functions in support of the production of laundry equipment (clothes washers and dryers) manufactured at the subject firm. The Department has determined that the above listed on-site worker groups are sufficiently under the control of Maytag Corporation to be considered leased workers.

The intent of the Department's certification is to include all workers employed at Maytag Corporation, a wholly owned subsidiary of Whirlpool Corporation, Newton Division, Newton, Iowa who were adversely affected by increased company imports.

The amended notice applicable to TA-W-60,515 is hereby issued as follows:

“All workers of Maytag Corporation, a wholly owned subsidiary of Whirlpool Corporation, Newton Division, including on-site leased workers of Henkel Corp., Randstad Corp., Ryerson Steel, Chem-Tool, Barnes Electric, Mid Iowa Tools, Kimco Janitorial, Johnston Controls, and Baker Electric, Newton, Iowa, who became totally or partially separated from employment on or after December 24, 2006, through December 26, 2008, are eligible to apply for adjustment assistance under section 223 of the Trade Act of 1974, and are also eligible to apply for alternative trade adjustment assistance under section 246 of the Trade Act of 1974.”

Signed at Washington, DC, this 26th day of July, 2007.
Richard Church,
Certifying Officer, Division of Trade Adjustment Assistance.

[FR Doc. E7-15002 Filed 8-1-07; 8:45 am]

BILLING CODE 4510-FN-P